DEPARTMENT OF HEALTH AND HUMAN SERVICES

Administration for Children and Families

Grants and Cooperative Agreements; Availability etc.: Healthy Marriage Initiative

Program Office: Office of Planning, Research and Evaluation.

Funding Opportunity Title: Healthy Marriage Research Initiative.

Announcement Type: Grant—Initial.

Funding Opportunity Number: HHS-2005-ACF-OPRE-OJ-0090.

CFDA Number: 93.647.

Due Date For Letter of Intent or Preapplications: June 27, 2005.

Due Date for Applications: July 26, 2005.

Executive Summary: The Office of Planning, Research and Evaluation (OPRE), within the Administration for Children and Families (ACF), announces the availability of funds to support new research under the Healthy Marriage Research Initiative. Applications for both short-term (12-17 months) and long-term (up to 60 months) studies will be considered. OPRE will consider applications in three broad categories of evaluation and research: intervention studies; basic studies; and methodological and analytical studies.

I. Funding Opportunity Description

Legislative Authority: Section 1110 of the Social Security Act [42 U.S.C. 1310]

Program Purpose: To stimulate and fund short- and long-term studies focused on healthy marriage in population groups for which a limited body of research exists. This means, primarily, lower-income individuals and couples, including but not limited to those in poverty, as well as ethnic and racial minority groups. Federal funding under this announcement will be approved to support research and evaluation activities only, not program operation or service provision.

This funding is intended to support different types of studies including: Basic studies to understand the determinants and barriers to sustained, healthy marriage among low-income couples and differences among racial/ethnic minorities; methodological and measurement studies to improve the quality of marital research related to low-income and racial/ethnic minorities; and intervention evaluation research to understand effective ways to help interested low-income couples achieve their desire for a healthy marriage. Studies under this announcement are intended to inform the design and operation of programs to support healthy marriages, and are intended to complement other ACF research initiatives related to building and sustaining healthy marriages (described below).

As indicated, OPRE anticipates funding both short-term projects (e.g., 12-17 months) and longer-term studies (up to 60 months). Recipients of multi-year project awards will be allowed to apply for additional funding in subsequent years, within the overall approved project period, on a non-competitive basis. Short-term projects may include one-time awards for project and budget periods of up to 17 months.

OPRE may provide sole funding for projects, provide principal funding, or support individual components of projects which have other funders. The latter types of applications (i.e., those with other funding sources) should include information about the funding sources for all components of the project in addition to the detailed budget information (as discussed in Section III) for the component(s) for which funding under this announcement is being sought.

In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competitions.

Overview and Description of Research Priorities

Background: The Personal Responsibility and Work Opportunity Reconciliation Act of 1996 authorizing the Temporary Assistance for Needy Families (TANF) program, outlined critical goals for assistance to needy families. The following three objectives relate directly to building and sustaining healthy marriages:

• To end dependence of needy parents on government benefits by promoting job preparation, work, and marriage;

• To encourage the formation and maintenance of two-parent families;

• To reduce the incidence of out-of-wedlock pregnancies.

There is mounting evidence that children raised by their married, biological parents fare better on many outcome measures and that high rates of non-marital childbearing and marital dissolution put children at increased risk. In addition, although not a panacea, research points to healthy marriage as an important factor in keeping children and families out of poverty. Research also suggests that marriage is a key source of greater economic security, health, and happiness for adults, and a vital resource for healthy communities.

Over the past several years, varied approaches to broadening access to supports for healthy marriage have emerged. The initiatives vary in many ways including the types of organizations or entities involved (e.g., state and local governments, community organizations, faith-based organizations, coalitions of organizations or partnerships), the types of individuals or families targeted, and the types of activities supported (e.g., training for high school and college students on healthy dating and relationships, pre-marital inventories, marriage education and enrichment classes, mentoring). In some instances, approaches include adding healthy marriage components to ongoing programs serving or utilized by lower-income families, such as community family resource centers, parenting programs, refugee assistance programs, or childbirth classes/clinics. We have limited information about the effectiveness of interventions among low-income populations.

Research has shown that individuals and couples across the economic spectrum are similar in their desire to have stable, healthy marriage and family relationships for themselves and their children. However, those dealing with economic difficulties often face additional challenges to achieving these goals relative to couples who are more economically secure. Research shows that lower-income is associated with higher rates of divorce. We have limited information about the factors that contribute to these differences, across economic and racial/ethnic groups. We also have limited information about factors that contribute to marital quality and stability and child well-being within lower-income groups and different racial and ethnic groups and whether the factors are the same or different across population groups.

OPRE has developed a research agenda related to healthy marriage that will help provide additional information in some of these areas. OPRE's current and recent projects are briefly described below. Where reports are available, they are referenced.

1. Building Strong Families (BSF). This project builds upon recent research showing that most unmarried, low-income couples are living together or romantically involved when their child is born. Moreover, most have strong hopes for marriage to each other. Unfortunately, only a small fraction will realize those hopes. BSF is a long-term experimental demonstration and evaluation study of intervention programs designed to help lower-income, unmarried parents gain the skills and knowledge needed to sustain a healthy relationship and achieve a healthy marriage if that is the path they choose. Information is available at http://www.buildingstrongfamilies.info.

2. Supporting Healthy Marriage (SHM). This project builds upon research that shows that, while lower-income individuals highly value marriage, they experience higher break-up rates. SHM is a long-term, experimental, demonstration and evaluation study of intervention programs designed to help lower-income couples who are either married or plan to marry gain the skills and knowledge needed to sustain a healthy marriage. Information is available at http://www.supportinghealthymarriage.org.

3. Community Healthy Marriage Initiatives (CHMI) Evaluation. A growing number of communities are initiating grass-roots efforts to help couples build and sustain healthy marriages through public awareness campaigns and saturating the community with educational opportunities. CHMI is a major, long-term effort to evaluate the implementation of such community-wide programs and evaluate impacts in selected sites.

4. Service Delivery Settings and Evaluation Design Options for Strengthening and Promoting Healthy Marriages. This project examined existing and potential service delivery systems for marriage education and provided recommendations for evaluation approaches and designs. In addition, the project involved a systematic review of studies on the effectiveness of interventions to strengthen marriage. Reports may be accessed at: http://www.acf.hhs.gov/programs/opre/strengthen/serv_delivery/index.html.

5. Economic Disincentives to Marriage Project. This project is building a comprehensive database of the state and federal incentives and disincentives for low-income couples who marry, as well as developing a dynamic software application that can accurately portray the costs and benefits to a particular couple of the decision to marry.

6. Conceptualizing and Measuring Healthy Marriages for Empirical Research and Evaluation Studies. This project is reviewing the state of the art of measurement in marriage and couple relationship research. The project includes a compendium of measures and a framework for addressing measurement questions and improving the battery of measures related to marriage and couple relationships. See Brief at: http://www.childtrends.org/_catdisp_page.cfm?LID=141#MarriageFamily.

Project Description

As stated previously, the purpose of this announcement is to stimulate and fund short and long-term research or evaluation studies focused on healthy marriage in population groups for which a limited body of research exists. This means, primarily, lower-income individuals and couples, including but not limited to those in poverty, and ethnic and racial minority groups (e.g., Latino/Hispanic, African-American, Native American, Asian and Pacific Islander). We are particularly interested in research and evaluation that would benefit two special initiatives within ACF: the African-American Healthy Marriage Initiative and the Hispanic Healthy Marriage Initiative. ACF strongly encourages applicants to consider domestic violence in proposed research activities. The research funded under this announcement will be germane to the government's goal of ensuring that more children grow up in stable homes with their own two parents (biological or adoptive) in a healthy marriage. Proposed research studies should not duplicate the efforts of ongoing ACF research studies.

Proposed studies may be applied, basic, or methodological. By applied we mean to include intervention and evaluation studies that increase knowledge about the effectiveness of an array of approaches designed to help individuals and couples build and sustain healthy marriages. By basic research we mean projects that will explore patterns and processes related to building and sustaining healthy marriages. Methodological studies are those that address conceptual, analytic, and measurement issues in studying marriage and couple relationships.

In addition to empirical research, proposals may include conceptual studies and meta-analyses that synthesize existing work and point in fertile directions for research and policy and program development. In addition to quantitative, empirical studies, applicants may propose to conduct qualitative studies that help illuminate relationship processes and the social context that enhances or diminishes the prospects of healthy marriage for population groups of interest. Original projects as well as enhancements to ongoing research will be considered.

Because the study of marriage and intimate relationships is complex and multidimensional, we are interested in proposals that will approach a research question from multiple disciplinary perspectives and via numerous methods. For example, some proposed studies will benefit from the joint participation of scholars and marriage practitioners.

Below we address in more detail the kinds of studies that are of interest to OPRE and that will advance ACF's healthy marriage research agenda. The discussion below is intended to be illustrative; it does not represent established priorities. Proposals may involve elements from more than one category discussed below. Studies that directly involve participants or individual level data must include plans for ensuring the confidentiality of participant identifiers and information.

1. Applied Research

We are interested in studies that test the effectiveness of approaches, programs and curricula to help low-income individuals and couples to improve their relationship skills and build and sustain a healthy marriage. We are interested in studies that would examine a range of questions regarding marriage education that will help to strengthen the practice of marriage education in general. Examples of such studies include but are not limited to: evaluation of curricula not previously tested; evaluation of variation in intensity or dosage; or tests of alternative methods or approaches for content presentation.

2. Basic Research

This work may include conceptual and empirical studies, both quantitative and qualitative, and both broad, macroscopic research and more focused work with clear application to the marriage initiative and program issues. We are interested in basic research on how individuals and couples build and sustain strong marriages as well as on factors that help or hinder the goals for a healthy marriage for youth and young adults. We are also interested in studies that replicate research on higher income couples' interaction processes with lower-income couples and studies that examine other/external stressors related to socio-economic status and other factors. We are also interested in studies with blended or step-families.

3. Methodological and Analytical Studies

We are also interested in supporting research that has a strong or exclusive methodological focus with excellent potential for improving marriage research. We are interested in both measurement studies and analytical studies.

Measurement studies may address questions about how researchers conceptualize and operationalize key concepts in a study and the measurement tools used and needed. In this area we are interested not only in self-reports of marital satisfaction but also in different conceptual lenses that highlight important constructs such as commitment, partnership, and sacrifice and effective measurement tools to capture the depth of marital and other unions. Development of observational measures and development or refinement of valid measures for use with under-studied population groups are also needed.

Improved analytical studies that utilize stronger theoretical frameworks and more sophisticated analytical tools to help overcome the limitations of correlational research in supporting causal interpretations are of interest. We are interested in studies using conceptual frameworks and analytical tools that link sets of variables at multiple levels of analysis: personal characteristics, dyadic relationships, family processes, and external or ecological factors. In addition, because quantitative research of marriage and couple relationships often leaves researchers speculating about the processes underlying their findings, we are interested in studies that integrate quantitative and qualitative work. Further, we are interested in quantitative studies that build on qualitative investigations by attempting to map the prevalence of processes found in qualitative research.

Priority Area

Healthy Marriage Research Initiative

1. Description

The Office of Planning, Research and Evaluation (OPRE), within the Administration for Children and Families (ACF), announces the availability of FY 2005 funds to support new research under the Healthy Marriage Research Initiative. If applications cannot be funded before September 30, 2005 using FY 2005 funds, awards will be made after October 1 using FY 2006 funds.

Applications for both short-term (12-17 months) and long-term (up to 60 months) studies will be considered. OPRE will consider applications in three broad categories of evaluation and research: applied research (intervention studies); basic studies; and methodological and analytical studies.

II. Award Information

Funding Instrument Type: Grant.

Anticipated Total Priority Area Funding: $900,000.

Anticipated Number of Awards: 4 to 8.

Ceiling on Amount of Individual Awards: $200,000 per budget period.

Floor on Amount of Individual Awards: None.

Average Projected Award Amount: $150,000 per budget period.

Length of Project Periods: Other.

Explanation of Other: For FY 2005, approximately $900,000 is expected to be available for the total group of approved projects. We estimate that this level of funding will support 4 to 8 separate projects under this announcement in FY 2005, depending on scope and scale. On average, we anticipate funding two to four multi-year projects at $150,000-$200,000 per budget period and approximately three to four one-time, smaller grants at $90,000 or less for 12-17 months. For longer-term projects, OPRE anticipates providing funding at approximately the same level for up to four additional years, subject to the availability of funds, satisfactory progress by the grantee, and the best interests of the Government. All grants are expected to be awarded by September 30, 2005. If applications cannot be funded before September 30, 2005 using FY 2005 funds, awards will be made after October 1 using FY 2006 funds.

III. Eligibility Information

1. Eligible Applicants

• Unrestricted (i.e., open to any type of entity subject to exceptions specified in Additional Information on Eligibility)

Additional Information on Eligibility:

Faith-based and community organizations are also eligible applicants.

No grant funds may be paid as profit to any recipient even if the recipient is a commercial organization. Profit is any amount in excess of allowable direct and indirect costs (45 CFR 74.81).

While a variety of organizations and entities are eligible to apply for funding under this announcement, potential applicants should carefully review the evaluation criteria to determine that they meet the requirements for experience and expertise for conducting rigorous, well-designed evaluations and studies of the type and scope discussed herein. Applicants are reminded that funding under this announcement is not available to support programs or service provision, but rather research and evaluation.

2. Cost Sharing/Matching: Yes

Grantees are required to meet a non-Federal share of the project costs, in accordance with section 1110 of the Social Security Act [42 U.S.C. 1310], which provides for making grants for paying part of the cost of research projects. Grantees must provide at least 5 percent of the total approved cost of the project. The total approved cost of the project is the sum of the ACF share and the non-Federal share. The non-Federal share may be met by cash or in-kind contributions, although applicants are encouraged to meet their match requirements through cash contributions. Therefore, a project requesting $300,000 in Federal funds (based on an award of $100,000 per budget period) must provide a match of at least $15,790 (5% of the total approved project costs). Grantees will be held accountable for commitments of non-Federal resources even if over the amount of the required match. Failure to provide the amount which the applicant indicates is committed to the project may result in a disallowance of Federal dollars. Lack of supporting documentation at the time of application will not impact the responsiveness of the application for competitive review.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status. Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earnings accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be considered for funding under this announcement.

Any application that fails to satisfy the deadline requirements referenced in Section IV.3 will be considered non-responsive and will not be considered for funding under this announcement.

IV. Application and Submission Information

1. Address to Request Application Package

OPRE Grant Review Team, Xtria, LLC, 8045 Leesburg Pike, Suite 400, Vienna, VA 22182, phone: 877-663-0250, e-mail: opre@xtria.com, URL: http://www.acf.hhs.gov/programs/ofs/forms.htm.

2. Content and Form of Application Submission

Letters of Intent: Those parties expecting to submit an application in response to this announcement are requested to submit a letter of intent by email that includes the funding opportunity title and number and the name and address of the applicant organization.

Due Date for Letters of Intent: 20 calendar days from date of publication in the Federal Register. Letters of Intent are strongly encouraged but not required.

Address to Submit Letters of Intent:

OPRE Grant Review Team, Xtria, LLC, 8045 Leesburg Pike, Suite 400, Vienna, VA 22182, phone: 877-663-0250, e-mail: opre@xtria.com.

The length of the application, excluding application forms, certifications, resumes and budget justification should not exceed 25 pages, double-spaced, using 12-point font or larger. Applicants are requested not to send pamphlets, brochures or other printed materials with the application. Such materials and/or pages exceeding the 25 page limit, if submitted, will not be reviewed. Applicants have the option of omitting from application copies (not originals) specific salary rates or amounts for individuals specified in the application budget. The copies may include summary salary information.

You may submit your application to us in either electronic or paper format. To submit an application electronically, please use the http://www.Grants.gov/Apply site. If you use Grants.gov, you will be able to download a copy of the application package, complete it off-line, and then upload and submit the application via the Grants.gov site. ACF will not accept grant applications via e-mail or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov

• You must search for the downloadable application package by the CFDA number.

Applicants that are submitting their application in paper format should submit an original and two copies of the complete application. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within P.L. 103-227, Title XII Environmental Tobacco Smoke (also known as the PRO-KIDS Act of 1994). A copy of the Federal Register notice which implements the smoking prohibition is included with this form. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Use of Human Subjects. If your evaluation plan includes gathering data from or about individuals, unless the project meets specified exemption criteria (see http://www.hhs.gov/ohrp/humansubjects/guidance/exmpt-pb.htm), there are specific procedures which must be followed in order to protect their privacy and ensure the confidentiality of the information about them. Applicants planning to gather such data are asked to describe their plans regarding an Institutional Review Board (IRB) review. If applicable, applicants must include a completed Form 310, Protection of Human Subjects. For more information about use of human subjects and IRB's you can visit these Web sites: http://www.hhs.gov/ohrp/irb/irb_chapter2.htm#d2

and

http://www.hhs.gov/ohrp/humansubjects/guidance/ictips.htm.

Those organizations required to provide proof of non-profit status, please refer to Section III.3. Please see Section V.1 for instructions on preparing the full project description.

3. Submission Dates and Times

Due Date For Letter of Intent or Preapplications: June 27, 2005.

Due Date for Applications: July 26, 2005.

Explanation of Due Dates

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Receipt acknowledgement for application packages will not be provided to applicants who submit their package via mail, courier services, or by hand delivery. Applicants will receive an electronic acknowledgement for applications that are submitted via http://www.Grants.gov.

Checklist:

You may use the checklist below as a guide when preparing your application package.

What to submit | Required content | Required form or format | When to submit
Letter of Intent | See Section IV.2 | Found in Section IV.2 | 20 days from date of announcement.
Project Description | See Sections IV.2 and V | Found in Sections IV.2 and V | By application due date.
Budget Narrative/Justification | See Sections IV.2 and V | Found in Sections IV.2 and V | By application due date.
SF424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 | May be found at http://www.acf.hhs.gov/program/ofs/forms.htm | By date of award.
Proof of Non-Profit Status | See Section III.3 | Found in Section III.3 | By date of award.
Assurance Regarding Protection of Human Subjects | IV.2 | http://www.acf.hhs.gov/programs/ofs/forms.htm | By application due date.

Additional Forms: Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Required form or format | When to submit
Survey for Private, Non-Profit Grant Applicants | See form | Found in http://www.acf.hhs.gov/programs/ofs/forms.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions that have elected to participate in E.O. 12372 can be found on the following URL: http://www.whitehouse.gov/omb/grants/spoc.html.

5. Funding Restrictions

Grant awards will not allow reimbursement of pre-award costs.

Grant awards are for research and evaluation costs only, not for program services or the support of conferences. This limitation does not preclude inclusion of costs associated with dissemination or presentation of findings by authors.

No grant funds may be paid as profit to any recipient even if the recipient is a commercial organization. Profit is any amount in excess of allowable direct and indirect costs (45 CFR 74.81).

6. Other Submission Requirements

Submission by Mail: An applicant must provide an original application with all attachments, signed by an authorized representative and two copies. Please see Section IV.3 for an explanation of due dates. Applications should be mailed to: OPRE Grant Review Team, Xtria, LLC, 8045 Leesburg Pike, Suite 400, Vienna, VA 22182.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: OPRE Grant Review Team, Xtria, LLC, 8045 Leesburg Pike, Suite 400, Vienna, VA 22182.

Electronic Submission: Please see Section IV.2 for guidelines and requirements when submitting applications electronically via http://www.Grants.gov.

V. Application Review Information

The Paperwork Reduction Act of 1995 (Pub. L. 104-13)

Public reporting burden for this collection of information is estimated to average 20 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

The following are instructions and guidelines on how to prepare the “project summary/abstract” and “full project description” sections of the application. Under the evaluation criteria section, note that each criterion is preceded by the generic evaluation requirement under the ACF Uniform Project Description (UPD).

Part I The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix.

Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes.

Incorporate demographic data and participant/beneficiary information, as needed. In developing the project description, the applicant may volunteer or be requested to provide information on the total range of projects currently being conducted and supported (or to be initiated), some of which may be outside the scope of the program announcement.

Results or Benefits Expected

Identify the results and benefits to be derived.

Clearly state the ways in which knowledge about what works will be improved through the funding of a project to evaluate a marriage education program for low-income couples, using an experimental design with random assignment of couples or individuals.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Staff and Position Data

Provide a biographical sketch and job description for each key person appointed. Job descriptions for each vacant key position should be included as well. As new key staff is appointed, biographical sketches will also be required.

Dissemination Plan

Provide a plan for distributing reports and other project outputs to colleagues and the public. Applicants must provide a description of the kind, volume and timing of distribution.

Third-Party Agreements

Provide written and signed agreements between grantees and subgrantees or subcontractors or other cooperating entities. These agreements must detail scope of work to be performed, work schedules, remuneration, and other terms and conditions that structure or define the relationship.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non Federal resources” are all other Federal and non-Federal resources. It is suggested that budget amounts and computations be presented in a columnar format: First column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Non-Federal Resources

Description: Amounts of non-Federal resources that will be used to support the project as identified in Block 15 of the SF-424.

Justification: The firm commitment of these resources must be documented and submitted with the application so the applicant is given credit in the review process. A detailed budget must be prepared for each funding source.

Total Direct Charges, Total Indirect Charges, Total Project Costs

Evaluation Criteria

The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach—30 Points

Applications will be evaluated on the extent to which the proposed approach, methods, and analytic techniques are appropriate and sufficient for addressing the questions proposed in the application.

Applications will be evaluated on the extent to which the approach is the most rigorous appropriate, including the use of random assignment for evaluation studies. Further, the review will assess the extent to which the planned analyses reflect knowledge and use of state-of-the-art analytic techniques and can be expected to advance the state of the art and knowledge in relation to research on healthy marriage, particularly among low-income populations and racial and ethnic minorities.

Applications will be evaluated on the extent to which the project plan reflects careful and appropriate consideration of differences in low-income populations and racial and ethnic minorities in a study focused on healthy marriage.

Applications will be evaluated on the extent to which the overall project plan is reasonable and can be expected to be successfully accomplished on the schedule proposed, at the funding and staffing levels proposed.

Results or Benefits Expected—25 Points

Applications will be evaluated on the extent to which the results expected, as described in the application, will lead to knowledge and improvements that can be straightforwardly applied and used by those providing direct services in the field of healthy marriage.

Applications will be evaluated on the extent to which the project and expected findings/results will substantially improve knowledge and understanding regarding family formation and healthy marriage among low-income populations and racial and ethnic minorities within the context of direct services or research in the field of healthy marriage.

Staff and Position Data—20 Points

Applications will be evaluated on the demonstrated relevance of the experience and expertise of the proposed principal investigator and other key staff for carrying out the proposed project.

Applicants should describe relevant prior experience for all key personnel in carrying out the activities and the types of analyses expected to be necessary in the proposed project. Listings or descriptions of prior studies are not sufficient.

Applications will be evaluated on the extent to which proposed key staff have demonstrated experience working with or studying low-income populations and racial and ethnic minorities in the area of family formation and/or healthy marriage.

Applications will be evaluated on the extent to which the time to be devoted to the project by the principal investigator is sufficient to ensure a high level of professional input and attention to all aspects of the study.

Objectives and Need for Assistance—15 Points

Applications will be evaluated on the clarity of the statement of the problem or issue they will address and the relevance of that problem/issue to the objectives of ACF's Healthy Marriage Initiative and the purposes of this announcement.

Applications will be evaluated on the extent to which they demonstrate that the project or study will address an important need related to the study of or direct services for healthy marriage, particularly among low-income populations and racial and ethnic minorities.

Budget and Budget Justification—10 Points

Applications will be evaluated on the reasonableness and appropriateness of the budget in relation to the proposed scope and scale of the project.

Applications will be evaluated on the extent to which the budget items are well justified in support of the proposed project and objectives and do not include superfluous items.

Applications will be evaluated on the extent of the cost-share provided. Grantees must provide at least 5 percent of the total approved cost of the project.

2. Review and Selection Process

No grant award will be made under this announcement on the basis of an incomplete application.

Timely applications from eligible applicants will be reviewed and scored competitively. Reviewers will use the evaluation criteria listed above to review and score the application.

In addition, ACF may solicit comments from ACF Regional Office staff, other Federal agencies, and, if determined to be appropriate, other knowledgeable individuals. These comments along with those of the reviewers will be considered by ACF in making the funding decision.

In making award decisions, ACF will aim to fund a group of studies that together address a wide range of questions of the greatest importance to ACF, states, other governmental agencies, and the general public. In order to ensure that a wide array of questions, topics, and issues will be addressed through projects funded under this announcement, in making the final selections, in addition to the review criteria identified below, ACF may consider additional factors including geographic diversity, racial/ethnic populations studied, project type, opportunities to analyze particular sub-groups of the population, methods being used and the issues being examined.

Further, to maximize the benefit of the Federal investment to stimulate research and advance knowledge about healthy marriages, ACF may give preference to applicants who provide evidence of other sources of funding for the project (e.g., applicant resources or private foundation funding) beyond the cost share.

On the basis of the review of an application, ACF will: (a) Approve the application for funding; or (b) disapprove the application; or (c) approve the application but not fund it for such reasons as a lack of funds or a need for further review.

Since ACF will be using non-Federal reviewers in the process, applicants have the option of omitting from the application copies (not the original) specific salary rates or amounts for individuals specified in the application budget and Social Security Numbers, if otherwise required for individuals. The copies may include summary salary information.

Approved but Unfunded Applications

Applications that are approved but unfunded may be held over for funding in the next funding cycle, pending the availability of funds, for a period not to exceed one year.

Anticipated Announcement and Award Dates

Awards are expected to be made by September 30, 2005. If applications cannot be funded before September 30, 2005 using FY 2005 funds, awards will be made after October 1 using FY 2006 funds.

Unsuccessful applicants will be notified in writing after award actions are made.

VI. Award Administration Information

1. Award Notices

The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements

Grantees are subject to the requirements in 45 CFR Part 74 (non-governmental) or 45 CFR Part 92 (governmental).

Grantees are subject to the requirements in 45 CFR Part 74 (non-governmental) or 45 CFR Part 92 (governmental).

Direct federal grants, subaward funds, or contracts under this Program shall not be used to support inherently religious activities such as religious instruction, worship, or proselytization. Therefore, organizations must take steps to separate, in time or location, their inherently religious activities from the services funded under this Program. Regulations pertaining to the prohibition of Federal funds for inherently religious activities can be found on the HHS Web site at http://www.os.dhhs.gov/fbci/waisgate21.pdf.

3. Reporting Requirements

Grantees will be required to submit program progress and financial reports (SF-269 found at http://www.acf.hhs.gov/programs/ofs/forms.htm) throughout the project period. Program progress and financial reports are due 30 days after the reporting period. Final programmatic and financial reports are due 90 days after the close of the project period.

Program Progress Reports: Semi-Annually.

Financial Reports: Semi-Annually.

Grantees' programmatic reports should indicate progress and accomplishments in carrying out the approved study to date compared to what was expected or proposed in the application and actions that have been taken to correct problems or delays. To the extent relevant based on study design/approach, programmatic progress reports should include interim findings. The progress report should also include information on completed and planned presentations on the project.

VII. Agency Contacts

Program Office Contact: OPRE Grant Review Team, Xtria, LLC, 8045 Leesburg Pike, Suite 400, Vienna, VA 22182, phone: 877-663-0250, e-mail: opre@xtria.com.

Grants Management Office Contact: Sylvia Johnson, Administration for Children and Families, Office of Grants Management, Division of Discretionary Grants, 370 L'Enfant Promenade, SW., 4th Floor West, Washington, DC 20447, phone: 202-401-4524, e-mail: syjohnson@acf.hhs.gov.

VIII. Other Information

Notice: Beginning with FY 2006, the Administration for Children and Families (ACF) will no longer publish grant announcements in the Federal Register. Beginning October 1, 2005 applicants will be able to find a synopsis of all ACF grant opportunities and apply electronically for opportunities via: http://www.Grants.gov. Applicants will also be able to find the complete text of all ACF grant announcements on the ACF Web site located at: http://www.acf.hhs.gov/grants/index.html. Information about existing OPRE sponsored research projects and publications may be found at http://www.acf.hhs.gov/programs/opre. and information about the ACF Healthy Marriage Initiative may be found at http://www.acf.hhs.gov/healthymarriage/index.html.

Please reference Section IV.3 for details about acknowledgement of received applications.

Dated: May 26, 2005.
Naomi Goldstein,
Director, Office of Planning, Research and Evaluation.

[FR Doc. 05-11191 Filed 6-3-05; 8:45 am]

BILLING CODE 4184-01-P